DEPARTMENT OF JUSTICE

Notice of Lodging of Proposed Modification to Partial Consent Decree Under the Clean Water Act

On February 13, 2023, the Department of Justice lodged a proposed Modification to Partial Consent Decree with the United States District Court for the Middle District of Pennsylvania in the lawsuit entitled United States and Commonwealth of Pennsylvania Department of Environmental Protection v. Capital Region Water and the City of Harrisburg, PA, Civil Action No. 1:15-cv-00291-CCC.

The United States and the Pennsylvania Department of Environmental Protection (“PADEP”) jointly filed this lawsuit in February 2015 against Capital Region Water (“CRW”) and the City of Harrisburg alleging violations of the Clean Water Act and the Pennsylvania Clean Streams Law. The complaint sought injunctive relief and civil penalties for alleged unpermitted discharges from the sewer system in Harrisburg, failure to prepare a Long-Term Control Plan in compliance with EPA's 1994 Combined Sewer Overflow Control Policy (“CSO Policy”), and failure to comply with other requirements of sewer and stormwater National Pollutant Discharge Elimination System (“NPDES”) permits. At the same time, the United States and PADEP also lodged a Partial Consent Decree that required CRW to perform injunctive relief to address the alleged violations. The Partial Consent Decree resolved all claims against the City of Harrisburg and nearly all claims against CRW, except for claims regarding CRW's implementation of a Long-Term Control Plan and claims for civil penalties against CRW. The Partial Consent Decree became effective on August 24, 2015.

The Modification to Partial Consent Decree refines the 2015 Partial Consent Decree by requiring CRW to perform injunctive measures to ensure that the sewer system is capable of meeting capture goals in a Long-Term Control Plan. Those measures include, among other requirements, construction projects to help bring the sewer system to a functional baseline; public notification of combined sewer overflow events, including real-time monitoring of certain combined sewer outfalls, and submission of a Long-Term Control Plan that complies with EPA's CSO Policy no later than December 31, 2024. The Modification provides the same resolution as the 2015 Partial Consent Decree; it does not resolve claims regarding CRW's implementation of the Long-Term Control Plan and claims for civil penalties against CRW.

The publication of this notice opens a period for public comment on the Modification to Partial Consent Decree. Comments should be addressed to the Assistant Attorney General, Environment and Natural Resources Division, and should refer to United States and Pennsylvania Department of Environmental Protection v. Capital Region Water and City of Harrisburg, D.J. Ref. No. 90-5-1-1-10157. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Modification to Partial Consent Decree may be examined and downloaded at this Justice Department website: https://www.justice.gov/enrd/consent-decrees. We will provide a paper copy of the Modification to Partial Consent Decree upon written request and payment of reproduction costs. Please mail your request and payment to: Consent Decree Library, U.S. DOJ—ENRD, P.O. Box 7611, Washington, DC 20044-7611.

Please enclose a check or money order for $22.25 (25 cents per page reproduction cost) payable to the United States Treasury.

Jeffrey Sands,
Assistant Section Chief, Environmental Enforcement Section, Environment and Natural Resources Division.

[FR Doc. 2023-03340 Filed 2-16-23; 8:45 am]

BILLING CODE 4410-15-P